ENVIRONMENTAL PROTECTION AGENCY

[ER-FRL-6637-9]

Environmental Impact Statements; Notice of Availability

Responsible Agency: Office of Federal Activities, General Information (202) 564-7167 or http://www.epa.gov/compliance/nepa.

Weekly receipt of Environmental Impact Statements

Filed February 17, 2003 Through February 21, 2003

Pursuant to 40 CFR 1506.9.

EIS No. 030065, DRAFT SUPPLEMENT, FHW, RI, Jamestown Bridge Replacement Project, New Information Regarding the Demolition of the Old Jamestown Bridge (Bridge No. 400), Federal Aid Project Numbers (BRF-0138(002)), U.S. Coast Guard, NPDES, U.S. Army COE Section 404 Permits, North Towns of North Kingstown and Jamestown, Washington and Newport Counties, RI, Comment Period Ends: April 25, 2003, Contact: Ralph Rizzo (401) 528-4548.

EIS No. 030066, DRAFT EIS, FHW, WA, WA-167 Freeway Project, Construct from WA-161 (Meridian Street North) in the City of Puyallup to the WA-509 freeway in the City of Tacoma, Funding, U.S. Coast Guard, NPDES, U.S. Army COE Section 10 and 404 Permits, Cities of Puyallup, Fife, Edgewood, Milton, and Tacoma, Pierce County, WA, Comment Period Ends: April 14, 2003, Contact: Steve Saxton (360) 753-9411.

This document is available on the Internet at: http://www.wy.blm.com.

EIS No. 030067, FINAL EIS, AFS, NC, Croatan National Forest Revised Land and Resource Management Plan (1986), Implementation, Carteret, Craven and Jones Counties, NC, Wait Period Ends: March 31, 2003, Contact: Lawrence Hayden (828) 257-4864.

EIS No. 030068, FINAL EIS, FHW, AL, Memphis to Atlanta Corridor, To Construct from I-65 in North Central Alabama Eastward to the Georgia State Line, COE Section 404, U.S. Coast Guard and NPDES Permits, Limestone, Morgan, Madison, Jackson, Marshall, DeKalb and Cherokee Counties, AL, Wait Period Ends: March 31, 2003, Contact: Joe. D. Wilkerson (334) 223-7370.

EIS No. 030069, FINAL EIS, FHW, MS, East Harrison County Connector Construction, I-10 to U.S. 90, Funding, U.S. Army COE and U.S. Coast Guard Permits, Issuance and Possible Transfer of Federal Lands, Harrison County, MS, Wait Period Ends: March 31, 2003, Contact: Cecil W. Vick, Jr. (601) 965-4217.

EIS No. 030070, DRAFT EIS, DOE, SC, Savannah River Site. Construction and Operation of a Mixed Oxide (MOX) Fuel Fabrication Facility, NUREG-1767, Aiken, Barnwell and Allendale Counties, SC, Comment Period Ends: April 14, 2003, Contact: Tim Harris (301) 415-6613.

EIS No. 030071, FINAL EIS, AFS, AZ, Kachina Village Forest Health Project, Forest Health Improvements and Potential Wildfire Reductions on National Forest System Land, Implementation, Coconino National Forest, Mormon Lake Ranger District, Coconino County, AZ, Wait Period Ends: March 31, 2003, Contact: Tammy Randall-Parker (928) 526-0866.

This document is available on the Internet at: http://www.fs.fed.us/r3/coconinio/nepa.

EIS No. 230072, DRAFT EIS, COE, IL, Programmatic EIS—East St. Louis and Vicinity, Illinois Ecosystem Restoration and Flood Damage Reduction Project, Implementation, Madison and St. Clair Counties, IL, Comment Period Ends: May 7, 2003, Contact: Deborah Roush (314) 331-8033.

This document is available on the Internet at: http://www.mvs.usace.army.mil/pm/pmmain.htm.

EIS No. 030073, FINAL SUPPLEMENT, AFS, MT, Clancy-Unionville Vegetation Manipulation and Travel Management Project, Updated and New Information concerning Cumulative Effects and Introduction of Alternative F, Clancy-Unionville Implementation Area, Helena National Forest, Helena Ranger District, Lewis and Clark and Jefferson Counties, MT, Wait Period Ends: March 31, 2003, Contact: Dan Mainwaring (406) 449-5490.

EIS No. 030074, DRAFT EIS, AFS, CA, Interface Recreation Trails Project, To Design a Recreation Route System, Implementation, Stanislaus National Forest, Calaveras Ranger District, Calaveras County, CA, Comment Period Ends: May 5, 2003, Contact: Robert W. Griffith (209) 795-1381.

This document is available on the Internet at: http://www.r5.fs.fed.us/stanslaus/calaveras.

EIS No. 030075, DRAFT EIS, AFS, OR, Steamboat Mountain Mining Operations, Proposal to Conduct Surface Quarry or “Open Pit” Mineral Extraction, Plan-of-Operation, Appelgate Adaptive Management Area, Rogue River National Forest, Applegate Ranger District, Jackson County, OR, Comment Period Ends: April 14, 2003, Contact: Bengf Hamner (541) 899-3800.

Dated: February 25, 2003.
Joseph C. Montgomery,
Director, NEPA Compliance Division, Office of Federal Activities.

[FR Doc. 03-4779 Filed 2-27-03; 8:45 am]

BILLING CODE 6560-50-P